Proclamation 7957 of November 2, 2005

National Family Caregivers Month, 2005

By the President of the United States of America

A Proclamation

Each November, as Americans reflect on our many blessings, we observe National Family Caregivers Month and give thanks for the selfless service of family caregivers on behalf of their loved ones in need. The tireless devotion of these Americans brings comfort and peace of mind to our Nation's elderly and to those who are chronically ill or disabled.

Family caregivers play an important role in communities across the United States. They provide most of the homecare services in our country and work hard to meet the emotional and physical needs of the family members and friends for whom they care. Through the National Family Caregiver Support Program, my Administration continues to encourage States and local agencies on aging to partner with faith-based, community, and tribal organizations. These partnerships can offer family caregivers the important information, counseling, training, respite care, and support services they need.

This November, enrollment begins under the new Medicare prescription drug benefit, which offers more affordable access to prescription drugs, better health care choices, and extra help to low-income seniors and beneficiaries with disabilities. This new coverage will help family caregivers, who often inform or make medical decisions for those they care for, by ensuring that their loved ones receive the best health care available.

Every day, family caregivers sacrifice their own needs to offer their loved ones the opportunity to live with dignity and independence in familiar surroundings. Their love, selflessness, and devotion inspire us all and demonstrate the compassionate spirit of America.

NOW, THEREFORE, I, GEORGE W. BUSH, President of the United States of America, by virtue of the authority vested in me by the Constitution and laws of the United States, do hereby proclaim November 2005 as National Family Caregivers Month. I encourage all Americans to honor and support those who serve as caregivers to their family members, friends, and neighbors in need.

IN WITNESS WHEREOF, I have hereunto set my hand this second day of November, in the year of our Lord two thousand five, and of the Independence of the United States of America the two hundred and thirtieth.

B

[FR Doc. 05-22297

Filed 11-4-05; 9:20 am]

Billing code 3195-01-P